DEPARTMENT OF DEFENSE

Department of the Air Force

[Docket ID: USAF-2010-0002]

Privacy Act of 1974; System of Records

AGENCY: Department of the Air Force, DoD.

ACTION: Notice to amend a system of records.

SUMMARY: The Department of the Air Force is proposing to amend a system of records notice in its existing inventory of records systems subject to the Privacy Act of 1974, (5 U.S.C. 552a), as amended.

DATES: This proposed action will be effective without further notice on February 16, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Ben Swilley at 703-696-6172.

SUPPLEMENTARY INFORMATION: The Department of the Air Force systems of records notices subject to the Privacy Act of 1974, (5 U.S.C. 552a), as amended, have been published in the Federal Register and are available from the contact under FOR FURTHER INFORMATION CONTACT.

The specific changes to the record system being amended are set forth below followed by the notice, as amended, published in its entirety. The proposed amendments are not within the purview of subsection (r) of the Privacy Act of 1974, (5 U.S.C. 552a), as amended, which requires the submission of a new or altered system report.

Dated: January 11, 2010.
Mitchell S. Bryman,
Alternate OSD Federal Register Liaison Officer, Department of Defense.

F052 USAFA A

SYSTEM NAME:

Cadet Chaplain Records (June 11, 1997; 62 FR 31793).

CHANGES:

* * * * *

SYSTEM LOCATION:

Delete entry and replace with “Command Chaplain, Headquarters, United States Air Force Academy, 2348 Sijan Drive, Suite 100, United States Air Force Academy, CO 80840-8280.”

* * * * *

CATEGORIES OF RECORDS IN THE SYSTEM:

Delete entry and replace with “Name, Social Security Number (SSN), religious affiliation, background and interests; and choir audition consisting of musical capabilities.”

AUTHORITY FOR MAINTENANCE OF THE SYSTEM:

Delete entry and replace with “10 U.S.C. 9331, Establishment; Superintendent; faculty, 10 U.S.C. 9337, Chaplain, and E.O. 9397 (SSN), as amended.”

PURPOSE(S):

Delete entry and replace with “To identify incoming Fourth Class Cadet's religious affiliation, background data and interests. Cadet Chaplains and chapel managers assigned to the USAF Academy Cadet Chaplin's office use this information to organize cadet lay participation as ushers, choir members, lay readers, lectors, commentators, and religious education teachers. Choir audition records identify incoming cadet's musical capabilities and the music directors use this information.”

* * * * *

RETENTION AND DISPOSAL:

Delete entry and replace with “Records are destroyed one year after graduation or discharge from the program. Records are destroyed by tearing into pieces, shredding, pulping, macerating or burning. Computer records are destroyed by erasing, deleting overwriting or degaussing.”

SYSTEM MANAGER(S) AND ADDRESS:

Delete entry and replace with “Command Chaplain, Headquarters, United States Air Force Academy, 2348 Sijan Drive, Suite 100, United States Air Force Academy, CO 80840-8280.”

NOTIFICATION PROCEDURE:

Delete entry and replace with “Individuals seeking to determine whether this system of records contains information on themselves should address inquiries to Command Chaplain, Headquarters, United States Air Force Academy, 2348 Sijan Drive, Suite 100, United States Air Force Academy, CO 80840-8280.

Requests should contain individual's name and Social Security Number (SSN).”

RECORD ACCESS PROCEDURE:

Delete entry and replace with “Individuals seeking to access records about themselves contained in this system should address requests to Command Chaplain, Headquarters, United States Air Force Academy, 2348 Sijan Drive, Suite 100, United States Air Force Academy, CO 80840-8280.

Requests should contain individuals' full name and Social Security Number (SSN).”

* * * * *

F052 USAFA A

SYSTEM NAME:

Cadet Chaplain Records.

SYSTEM LOCATION:

Command Chaplain, Headquarters, United States Air Force Academy, 2348 Sijan Drive, Suite 100, United States Air Force Academy, CO 80840-8280.

CATEGORIES OF INDIVIDUALS COVERED BY THE SYSTEM:

Air Force Academy Cadets.

CATEGORIES OF RECORDS IN THE SYSTEM:

Name, Social Security Number (SSN), religious affiliation, background and interests, and choir audition consisting of musical capabilities.

AUTHORITY FOR MAINTENANCE OF THE SYSTEM:

10 U.S.C. 9331, Establishment; Superintendent; faculty, 10 U.S.C. 9337, Chaplain, and E.O. 9397 (SSN), as amended.

PURPOSE(S):

To identify incoming Fourth Class Cadet's religious affiliation, background data and interests. Cadet Chaplains and chapel managers assigned to the USAF Academy Cadet Chaplin's office use this information to organize cadet lay participation as ushers, choir members, lay readers, lectors, commentators, and religious education teachers. Choir audition records identify incoming cadet's musical capabilities and the music directors use this information.

ROUTINE USES OF RECORDS MAINTAINED IN THE SYSTEM, INCLUDING CATEGORIES OF USERS AND THE PURPOSES OF SUCH USES:

In addition to those disclosures generally permitted under 5 U.S.C. 552a(b) of the Privacy Act of 1974, these records or information may specifically be disclosed outside the DoD as a routine use pursuant to 5 U.S.C. 552a(b)(3) as follows:

The `Blanket Routine Uses' published at the beginning of the Air Force's compilation of systems of records notices apply to this system.

POLICIES AND PRACTICES FOR STORING, RETRIEVING, ACCESSING, RETAINING, AND DISPOSING OF RECORDS IN THE SYSTEM:

STORAGE:

Maintained on computer and electronic storage media.

RETRIEVABILITY:

Retrieved by name and Social Security Number (SSN).

SAFEGUARDS:

Records are accessed by the custodian, individuals responsible for servicing the record system in the course of their official duties, and by authorized personnel who are properly cleared for need-to-know. Records are stored in locked rooms and on computer storage devices protected by computer system software.

RETENTION AND DISPOSAL:

Records are destroyed one year after graduation or discharge from the program. Records are destroyed by tearing into pieces, shredding, pulping, macerating or burning. Computer records are destroyed by erasing, deleting overwriting or degaussing.

SYSTEM MANAGER(S) AND ADDRESS:

Command Chaplain, Headquarters, United States Air Force Academy, 2348 Sijan Drive, Suite 100, United States Air Force Academy, CO 80840-8280.

NOTIFICATION PROCEDURE:

Individuals seeking to determine whether this system of records contains information on themselves should address inquiries to Command Chaplain, Headquarters, United States Air Force Academy, 2348 Sijan Drive, Suite 100, United States Air Force Academy, CO 80840-8280.

Requests should contain individual's name and Social Security Number (SSN).

RECORD ACCESS PROCEDURES:

Individuals seeking to access records about themselves contained in this system should address requests to Command Chaplain, Headquarters, United States Air Force Academy, 2348 Sijan Drive, Suite 100, United States Air Force Academy, CO 80840-8280.

Requests should contain individual's full name and Social Security Number (SSN).

CONTESTING RECORD PROCEDURES:

The Air Force rules for accessing records, and for contesting contents and appealing initial agency determinations are published in Air Force Instruction 37-132; 32 CFR part 806b; or may be obtained from the system manager.

RECORDS SOURCE CATEGORIES:

Information obtained from individual cadet.

EXEMPTIONS CLAIMED FOR THE SYSTEM:

None.

[FR Doc. 2010-589 Filed 1-13-10; 8:45 am]

BILLING CODE 5001-06-P